DEPARTMENT OF THE TREASURY

Submission for OMB Review; Comment Request

February 24, 2014.

The Department of the Treasury will submit the following information collection request to the Office of Management and Budget (OMB) for review and clearance in accordance with the Paperwork Reduction Act of 1995, Public Law 104-13, on or after the date of publication of this notice.

DATES: Comments should be received on or before March 31, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

United States Mint

OMB Number: 1525-0015.

Type of Review: Extension without change of a currently approved collection.

Title: Quantitative Consumer Research—U.S. Mint Customer Spend Trajectory Research.

Abstract: This collection request is for the United States Mint to conduct studies aimed to inventory the various multi-year spend trajectories (e.g., spend increases substantially, spend decreases substantially, customer stops purchasing altogether, etc.) observed in the United States Mint customer base and to understand the factors that contribute to these trajectories.

Affected Public: Individuals or Households.

Estimated Annual Burden Hours: 1,000.

Dawn D. Wolfgang,
Treasury PRA Clearance Officer.

[FR Doc. 2014-04377 Filed 2-27-14; 8:45 am]

BILLING CODE 4810-37-P